DEPARTMENT OF AGRICULTURE

Rural Development

Notice of Funds Availability (NOFA) Inviting Applications for the Renewable Energy Systems and Energy Efficiency Improvements Grant Program

AGENCY: Rural Development, USDA.

ACTION: Notice; correction.

SUMMARY: Rural Development corrects a notice published in the Federal Register May 5, 2004 (69 FR 25234-25259), announcing the availability of up to $22.8 million in competitive grant funds for fiscal year (FY) 2004 to purchase renewable energy systems and make energy improvements for agricultural producers and rural small businesses.

Accordingly the notice published May 5, 2004 (69 FR 25234-25259), is corrected as follows:

On page 25236 in the second column under the heading Grant Amounts, the sixth sentence, “Applications for energy efficiency improvements must be for a minimum grant request of $2,500, but not more than $500,000” should read “Applications for energy efficiency improvements must be for a minimum grant request of $2,500, but not more than $250,000.”

Dated: May 7, 2004.
John Rosso,
Administrator, Rural Business-Cooperative Service.

[FR Doc. 04-11110 Filed 5-14-04; 8:45 am]

BILLING CODE 3410-XY-P